ENVIRONMENTAL PROTECTION AGENCY

[FRL-6700-3]

Public Meetings on Electronic Submission of Environmental Reports

AGENCY: Environmental Protection Agency (EPA).

ACTION: Notice of public meetings.

SUMMARY: EPA will hold approximately four public meetings to solicit comments on the Agency's proposed rule for the electronic submission of environmental reports and the Cross-Media Electronic Reporting and Record-keeping Rule (CROMERRR). The meeting will also obtain feedback on the design of the Central Receiving Facility (CRF), the system the Agency will use to receive reports electronically. In addition, the Agency's Integrated Error Correction Process (IECP) will be discussed. This notice announces two upcoming meetings. Additional meeting dates will be announced through Federal Register notices.

DATES: The meetings will take place:

1. Tuesday, June 6, 2000, 9 am to 4 pm (CST) at the Ralph H. Metcalfe Federal Building, 3rd Floor, 77 West Jackson Street, Chicago, IL.

2. Tuesday, July 11, 2000. 9 am to 4 pm (EST) at Resolve, Inc., 1255 23rd Street NW, Suite 275, Washington, DC.

FOR FURTHER INFORMATION CONTACT: Magdalena Evi Huffer (Mail Stop 2823), Environmental Protection Agency, 1200 Pennsylvania Avenue, NW, Washington, DC 20460; telephone: (202) 260-8791; fax number (202) 401-0182; e-mail—huffer.evi@epa.gov.

SUPPLEMENTARY INFORMATION: CROMERRR will provide the legal framework for electronic reporting and record-keeping under EPA's environmental regulations. CROMERRR will apply to most, if not all, reporting and record-keeping activities currently required of companies covered by EPA regulations and will remove legal obstacles to electronic reporting and record-keeping under most EPA regulations. It will ensure that these electronic documents will have the same legal and evidentiary force as their paper counterparts.

The (CRF) will be the point of entry for all environmental data submitted to the Agency, electronic and paper. The CRF will enable automated computer-to-computer data transfer for companies with automated environmental systems. It will provide quicker access for industry and the public to higher quality data. It will offer timesaving efficiencies by offering a single point of entry and common procedures for all reporting transactions.

The IECP for environmental data will build upon existing error correction processed in EPA data systems. It will make error correction easier, more prominent and accountable. The IECP will improve EPA's accountability to individuals and entities that report data to the Agency while also improving the Agency's service to the public, which relies on the Agency for information about the state of our environment.

Dated: May 1, 2000.
Joseph D. Retzer,
Director, Collection Services Division, Office of Information Collection, Office of Environmental Information.

[FR Doc. 00-12304 Filed 5-15-00; 8:45 am]

BILLING CODE 6560-50-M